DEPARTMENT OF LABOR

Employment and Training Administration

[TA-W-50,884]

Border Apparel, El Paso, TX; Notice of Termination of Investigation

Pursuant to section 221 of the Trade Act of 1974, as amended, an investigation was initiated on February 13, 2003, in response to a worker petition filed on behalf of workers at Border Apparel, El Paso, Texas.

The petition regarding the investigation has been deemed invalid. Consequently, the investigation has been terminated.

Signed at Washington, DC this 11th day of March 2003.
Richard Church,
Certifying Officer, Division of Trade Adjustment Assistance.

[FR Doc. 03-7205 Filed 3-25-03; 8:45 am]

BILLING CODE 4510-30-P